SMALL BUSINESS ADMINISTRATION

[Disaster Declaration #11023]

Nebraska Disaster #NE-00017

AGENCY: Small Business Administration

ACTION: Notice.

SUMMARY: This is a Notice of the Presidential declaration of a major disaster fro Public Assistance Only for the State of Nebraska (FEMA)-1721-DR), dated 08/29/2007.

Incident: Severe Storms and Flooding.

Incident Period: 06/11/2007 through 06/16/2007.

Effective Date: 08/29/2007.

Physical Loan Application Deadline Date: 10/29/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 08/29/2007, Private Non-Profit organizations that provide essential services of a governmental nature may file disaster loan applications at the address listed above or other locally announced locations.

The following areas have been determined to be adversely affected by the disaster:

Primary Counties: Arthur, Chase, Dundy, Keith, McPherson, Perkins.

The Interest rates are:

| Percent
Other (Including Non-Profit Organizations) With Credit Available Elsewhere | 5.250
Businesses and Non-Profit Organizations without Credit Available Elsewhere | 4.000

The number assigned to this disaster for physical damage is 11023.

(Catalog of Federal Domestic Assistance Number 59008)

Herbert L. Mitchell,
Associate Administrator for Disaster Assistance.

[FR Doc. 07-4452 Filed 9-14-07; 8:45 am]

BILLING CODE 8025-01-M